NATIONAL AERONAUTICS AND SPACE ADMINISTRATION

[Notice 03-105]

Government-Owned Inventions, Available for Licensing

ACTION: Notice of availability of inventions for licensing.

SUMMARY: The inventions listed below are assigned to the National Aeronautics and Space Administration, have been filed in the United States Patent and Trademark Office, and are available for licensing.

DATES: September 15, 2003.

FOR FURTHER INFORMATION CONTACT: Randy Heald, Patent Counsel, Kennedy Space Center, Mail Code CC-A, Kennedy Space Flight Center, FL 32899; telephone (321) 867-7214; fax (321) 867-1817.

NASA Case No. KSC-12133: A Method and System for Decomposing Hydrazine Waste (Combined with KSC-12492);

NASA Case No. KSC-12399: Contaminant Removal From Natural Resources; NASA Case No. KSC-12458: UV Induced Oxidation Of Mitric Oxide.

Dated: September 8, 2003.
Robert M. Stephens,
Deputy General Counsel.

[FR Doc. 03-23492 Filed 9-12-03; 8:45 am]

BILLING CODE 7510-01-P